DEPARTMENT OF ENERGY

Federal Energy Regulatory Commission

Combined Notice of Filings

January 20, 2010.

Take notice that the Commission has received the following Natural Gas Pipeline Rate and Refund Report filings:

Docket Numbers: RP10-314-000.

Applicants: Wyoming Interstate Company, Ltd.

Description: Wyoming Interstate Company, Ltd submits Fifteenth Revised Sheet 1 to its FERC Gas Tariff, Second Revised Volume 2 to be effective 2/15/10.

Filed Date: 01/15/2010.

Accession Number: 20100119-0218.

Comment Date: 5 p.m. Eastern Time on Wednesday, January 27, 2010.

Docket Numbers: RP10-315-000.

Applicants: Columbia Gulf Transmission Company.

Description: Columbia Gulf Transmission Company submits First Revised Sheet 237 to its FERC Gas Tariff, Second Revised Volume 1 to be effective 2/15/10.

Filed Date: 01/15/2010.

Accession Number: 20100119-0219.

Comment Date: 5 p.m. Eastern Time on Wednesday, January 27, 2010.

Docket Numbers: RP10-316-000.

Applicants: Dominion Transmission, Inc.

Description: Dominion Transmission, Inc submits Third Revised Sheet 32 et al. to its FERC Gas Tariff, Second Revised Volume 1A, to be effective 2/15/10.

Filed Date: 01/15/2010.

Accession Number: 20100119-0217.

Comment Date: 5 p.m. Eastern Time on Wednesday, January 27, 2010.

Docket Numbers: RP10-317-000.

Applicants: Trailblazer Pipeline Company LLC.

Description: Trailblazer Pipeline Company LLC submits report on the refund of penalty revenues.

Filed Date: 01/15/2010.

Accession Number: 20100119-0216.

Comment Date: 5 p.m. Eastern Time on Wednesday, January 27, 2010.

Docket Numbers: RP10-318-000.

Applicants: Gulf Crossing Pipeline Company LLC.

Description: Gulf Crossing Pipeline Company, LLC submits Second Revised Sheet 300 et al. to its FERC Gas Tariff, Original Volume 1, to be effective 2/19/10.

Filed Date: 01/19/2010.

Accession Number: 20100119-0214.

Comment Date: 5 p.m. Eastern Time on Monday, February 01, 2010.

Docket Numbers: RP10-319-000.

Applicants: Gulf South Pipeline Company, LP.

Description: Gulf South Pipeline Company, LP submits Sixth Revised Sheet No 2400 et al. to FERC Gas Tariff, Sixth Revised Volume No 1.

Filed Date: 01/19/2010.

Accession Number: 20100119-0213.

Comment Date: 5 p.m. Eastern Time on Monday, February 01, 2010.

Docket Numbers: RP10-320-000.

Applicants: Texas Gas Transmission, LLC.

Description: Texas Gas Transmission, LLC submits Second Revised Sheet 1300 et al. to FERC Gas Tariff, Third Revised Volume 1, to be effective 2/19/10.

Filed Date: 01/19/2010.

Accession Number: 20100119-0211.

Comment Date: 5 p.m. Eastern Time on Monday, February 01, 2010.

Docket Numbers: RP10-321-000.

Applicants: Questar Overthrust Pipeline Company.

Description: Questar Overthurst Pipeline Company submits First Revised Sheet 7 and 8 to its FERC Gas Tariff, Second Revised Volume 1-A, to be effective 1/1/10.

Filed Date: 01/19/2010.

Accession Number: 20100119-0212.

Comment Date: 5 p.m. Eastern Time on Monday, February 01, 2010.

Docket Numbers: RP10-322-000.

Applicants: Granite State Gas Transmission, Inc.

Description: Granite State Gas Transmission, Inc submits a new Fourth Revised Volume 1 of Granite State's FERC Gas Tariff.

Filed Date: 01/15/2010.

Accession Number: 20100119-0226.

Comment Date: 5 p.m. Eastern Time on Wednesday, January 27, 2010.

Docket Numbers: RP10-323-000.

Applicants: Young Gas Storage Company, Ltd.

Description: Young Gas Storage Company, Ltd. Operational Purchases and Sales Annual Report.

Filed Date: 01/15/2010.

Accession Number: 20100115-5120.

Comment Date: 5 p.m. Eastern Time on Wednesday, January 27, 2010.

Docket Numbers: RP10-324-000.

Applicants: North Baja Pipeline LLC.

Description: North Baja Pipeline, LLC submits Original Sheet 239 et al. to its FERC Gas Tariff, Original Volume 1.

Filed Date: 01/19/2010.

Accession Number: 20100119-0228.

Comment Date: 5 p.m. Eastern Time on Monday, February 01, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-2087 Filed 2-1-10; 8:45 am]

BILLING CODE 6717-01-P